ENVIRONMENTAL PROTECTION AGENCY

40 CFR Part 300

[EPA-HQ-SFUND-1986-0005; FRL-9993-34-Region 9]

National Oil and Hazardous Substances Pollution Contingency Plan; National Priorities List: Partial Deletion of the Beckman Instruments Superfund Site

AGENCY: Environmental Protection Agency (EPA).

ACTION: Final rule.

SUMMARY: The Environmental Protection Agency (EPA) Region 9 announces the deletion of the soil portion of the Beckman Instruments Superfund Site (Site) located in Porterville, California, from the National Priorities List (NPL). The NPL, promulgated pursuant to section 105 of the Comprehensive Environmental Response, Compensation, and Liability Act (CERCLA) of 1980, as amended, is an appendix of the National Oil and Hazardous Substances Pollution Contingency Plan (NCP). This partial deletion pertains to the soil portion of the Site. The groundwater will remain on the NPL and is not being considered for deletion as part of this action. EPA and the State of California, through the Department of Toxic Substances Control, have determined that all appropriate response actions under CERCLA have been completed. However, the deletion of the soil portion of the Site does not preclude future actions under Superfund.

DATES: This action is effective May 10, 2019.

ADDRESSES: EPA has established a docket for this action under Docket Identification No. EPA-HQ-SFUND-1986-0005. All documents in the docket are listed on the http://www.regulations.gov website. Although listed in the index, some information is not publicly available, i.e., Confidential Business Information or other information whose disclosure is restricted by statute. Certain other material, such as copyrighted material, is not placed on the internet and will be publicly available only in hard copy form. Publicly available docket materials are available either electronically through http://www.regulations.gov or at the site information repositories. Locations, contacts, phone numbers and viewing hours are:

Superfund Records Center, 75 Hawthorne Street, Room 3110, San Francisco, California, Hours: 8 a.m.-4 p.m.; (415) 947-8717.

Site Repository: 41 W. Thurman Avenue, Porterville, California. Call (559) 784-0177 for hours of operation.

FOR FURTHER INFORMATION CONTACT: Holly Hadlock, Superfund Project Manager, U.S. EPA, Region 9, (SFD-7-3), 75 Hawthorne Street, San Francisco, CA 94105, (415) 972-3171, email: hadlock.holly@epa.gov.

SUPPLEMENTARY INFORMATION: The portion of the Site to be deleted from the NPL is the soil at the Beckman Instruments Superfund Site, Porterville, California. A Notice of Intent for Partial Deletion for this Site was published in the Federal Register (84 FR 4033-4035) on February 14, 2019. The closing date for comments on the Notice of Intent for Partial Deletion was March 18, 2019. EPA received two comments that support the decision to deletion the soil from the NPL. These comments have been placed in both the docket at www.regulations.gov (EPA-HQ-SFUND-1986-0005) and in the repositories listed above.

EPA maintains the NPL as the list of sites that appear to present a significant risk to public health, welfare, or the environment. Deletion of a site from the NPL does not preclude further remedial action. Whenever there is a significant release from a site deleted from the NPL, the deleted site may be restored to the NPL without application of the hazard ranking system. Deletion of portions of a site from the NPL does not affect responsible party liability, in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: April 3, 2019.
Michael B. Stoker,
Regional Administrator, Region 9.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. Table 1 of Appendix B to part 300 is amended by removing the California entry for “Beckman Instruments (Porterville Plant)” and adding an entry for “Beckman Instruments” in its place to read as follows:

Appendix B to Part 300—National Priorities List

Table 1—General Superfund Section
State | Site name | City/County | Notes (a)
| * * * * * * *
CA | Beckman Instruments | Porterville | P.
* * * * * * *
| * * * * * * *
| * * * * * * *
* * * * * * *
(a) = Based on issuance of health advisory by Agency for Toxic Substances and Disease Registry (if scored, HRS score need not be greater than or equal to 28.50).
* * * * * * *
*P = Sites with partial deletion(s).

[FR Doc. 2019-09480 Filed 5-9-19; 8:45 am]

BILLING CODE 6560-50-P